DEPARTMENT OF THE INTERIOR

National Park Service

[NPS-WASO-NAGPRA-NPS0035009; PPWOCRADN0-PCU00RP14.R50000]

Notice of Inventory Completion: Alabama Department of Transportation, Montgomery, AL

AGENCY: National Park Service, Interior.

ACTION: Notice.

SUMMARY: The Alabama Department of Transportation (ALDOT) has completed an inventory of human remains, in consultation with the appropriate Indian Tribes or Native Hawaiian organizations and has determined that there is a cultural affiliation between the human remains and present-day Indian Tribes or Native Hawaiian organizations. Lineal descendants or representatives of any Indian Tribe or Native Hawaiian organization not identified in this notice that wish to request transfer of control of these human remains should submit a written request to ALDOT. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to ALDOT at the address in this notice by January 17, 2023.

ADDRESSES: William B. Turner, Alabama Department of Transportation, 1409 Coliseum Blvd., Montgomery, AL 36110, telephone (334) 242-6144, email turnerw@dot.state.al.us.

SUPPLEMENTARY INFORMATION: Notice is here given in accordance with the Native American Graves Protection and Repatriation Act (NAGPRA), 25 U.S.C. 3003, of the completion of an inventory of human remains under the control of the Alabama Department of Transportation, Montgomery, AL. The human remains were removed from Baldwin County, AL.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by Alabama Department of Transportation and the University of Alabama professional staff in consultation with representatives of The Choctaw Nation of Oklahoma.

History and Description of the Remains

During the summer of 1974, human remains representing, at minimum, 10 individuals were removed from the D'Olive Creek site, 1Ba196, in Baldwin County, AL. Burials were removed by University of Alabama archeologists under contract to ALDOT during Phase III Data Recovery excavations conducted prior to construction of Interstate 10 across Mobile Bay, near the city of Daphne. In 1975, the collection was obtained by University of Alabama in 1975, and in 2022, ALDOT assumed control. No known individuals were identified. No associated funerary objects were recovered.

The D'Olive Creek site, 1Ba196, is a shell midden occupied during the Late Woodland and Mississippian periods. Some evidence of European contact is indicated by possible French trade artifacts. Cultural affiliation of these human remains with The Choctaw Nation of Oklahoma is based on the location of their discovery and the time periods represented by the artifacts recovered from the site.

Determinations Made by the Alabama Department of Transportation

Officials of the Alabama Department of Transportation have determined that:

• Pursuant to 25 U.S.C. 3001(9), the human remains described in this notice represent the physical remains of 10 individuals of Native American ancestry.

• Pursuant to 25 U.S.C. 3001(2), there is a relationship of shared group identity that can be reasonably traced between the Native American human remains and The Choctaw Nation of Oklahoma.

Additional Requestors and Disposition

Lineal descendants or representatives of any Indian Tribe or Native Hawaiian organization not identified in this notice that wish to request transfer of control of these human remains should submit a written request with information in support of the request to William B. Turner, Alabama Department of Transportation, 1409 Coliseum Blvd., Montgomery, AL 36110, telephone (334) 242-6144, email turnerw@dot.state.al.us, by January 17, 2023. After that date, if no additional requestors have come forward, transfer of control of the human remains to The Choctaw Nation of Oklahoma may proceed.

The Alabama Department of Transportation is responsible for notifying The Choctaw Nation of Oklahoma that this notice has been published.

Dated: December 7, 2022.
Melanie O'Brien,
Manager, National NAGPRA Program.

[FR Doc. 2022-27179 Filed 12-14-22; 8:45 am]

BILLING CODE 4312-52-P